ENVIRONMENTAL PROTECTION AGENCY

[FRL-7505-2]

Child-Specific Exposure Factors Handbook

AGENCY: Environmental Protection Agency.

ACTION: Notice of availability.

SUMMARY: The U.S. Environmental Protection Agency (EPA) is announcing the availability of the final document titled, Child-Specific Exposure Factors Handbook (EPA/600/P-00/002B, September 2002). The document was prepared by the Office of Research and Development's National Center for Environmental Assessment (NCEA). The goal of the Child-Specific Exposure Factors Handbook is to consolidate all children's exposure factors data into one document. The document provides a summary of the available and up-to-date statistical data on various factors assessing children's exposures. These factors include drinking water consumption; soil ingestion; inhalation rates; dermal factors including skin area and soil adherence factors; consumption of fruits, vegetables, fish, meats, dairy products, homegrown foods, and breast milk; activity patterns; body weight; consumer products, and life expectancy.

ADDRESSES: The document is available electronically through the NCEA Web site (www.epa.gov/ncea). A limited number of paper copies will be available from the EPA's National Service Center for Environmental Publications (NSCEP), P.O. Box 42419, Cincinnati, OH 45242; telephone: 1-800-490-9198 or 513-489-8190; facsimile: 513-489-8695. Please provide your name, your mailing address, and the title and EPA number of the requested publication.

FOR FURTHER INFORMATION CONTACT: The Technical Information Staff, National Center for Environmental Assessment/Washington Office (8623D), U.S. Environmental Protection Agency, 1200 Pennsylvania Avenue, NW., Washington, DC 20460. Telephone: 202-564-3261; fax: 202-565-0050; e-mail: nceadc.comment@epa.gov.

Dated: May 15, 2003.
Peter W. Preuss,
Director, National Center for Environmental Assessment.

[FR Doc. 03-13430 Filed 5-28-03; 8:45 am]

BILLING CODE 6560-50-P